DEPARTMENT OF HOMELAND SECURITY

Coast Guard

[Docket No. USCG-2020-0278]

Port Access Route Study: Northern New York Bight

AGENCY: Coast Guard, DHS.

ACTION: Notice of availability; final report.

SUMMARY: The First Coast Guard District announces the completion of the Northern New York Bight Port Access Route Study (NNYBPARS). The study was conducted to evaluate the adequacy of existing vessel routing measures and determine whether additional vessel routing measures are necessary for port approaches to New York and New Jersey and international and domestic transit areas in the First Coast Guard District's area of responsibility. To accomplish this goal, the First Coast Guard District has undertaken measures to determine whether existing or additional routing measures are necessary to improve navigation safety due to factors such as planned or potential offshore development, current port capabilities and planned improvements, increased vessel traffic, existing and potential anchorage areas, changing vessel traffic patterns, effects of weather, or navigational difficulty. The NNYBPARS final report is available for viewing and download from the Federal Register docket at http://www.regulations.gov or the Coast Guard Navigation Center website at https://www.navcen.uscg.gov/?pageName=PARSReports.

FOR FURTHER INFORMATION CONTACT: If you have questions on this notice, contact Mr. Craig Lapiejko, Waterways Management at First Coast Guard District, telephone (617) 223-8351, email craig.d.lapiejko@uscg.mil.

I. Table of Abbreviations

DHS Department of Homeland Security

LNM Local Notice to Mariners

MSIB Marine Safety Information Bulletin

MTS Marine Transportation System

NAD 83 North American Datum of 1983

NNYB Northern New York Bight

PARS Port Access Route Study

PWSA Ports and Waterways Safety Act

TSS Traffic Separation Scheme

USCG United States Coast Guard

II. Background and Purpose

When did the Coast Guard conduct this Port Access Route Study (PARS)?

We conducted this PARS following our announcement of the PARS in a notice published in the Federal Register on June 29, 2020, entitled “Port Access Route Study (PARS): Northern New York Bight,” (85 FR 38907). The public was afforded a 60-day comment period, and two virtual public meetings were held via teleconference and webinar to receive public input. The Coast Guard received 25 comments in response to our Federal Register Notice, public meetings and other outreach efforts, which included announcement via a Marine Safety Information Bulletin (MSIB), publication in the Local Notice to Mariners (LNM), and Facebook and Twitter posts. All comments and supporting documents to this document are available in a public docket and can be viewed at http://www.regulations.gov.

On April 12, 2021, we published a supplemental notice of study; request for comments entitled “Port Access Route Study (PARS): Northern New York Bight” in the Federal Register (86 FR 18996) seeking additional information. The public was afforded a 30-day comment period. The Coast Guard received five comments to this document in response to our Federal Register Notice, and other outreach efforts, which included an announcement via a MSIB, publication in the LNM, and Facebook and Twitter posts. All comments and supporting documents to this document are available in a public docket and can be viewed at http://www.regulations.gov.

On July 15, 2021, we published a notice of availability of draft report and public meeting; request for comments, entitled “Port Access Route Study (PARS): Northern New York Bight” in the Federal Register (86 FR 37339) announcing the availability of the draft version of the study report. The public was initially afforded a 45-day comment period. On September 09, 2021, the comment period was re-opened for an additional 22 days.

During the combined 67-day public comment period, the Coast Guard received 21 comments in response to our Federal Register Notice and other outreach, which included four public meetings (one virtual and three in person), announcements via MSIBs, publications in the LNM, and Facebook and Twitter posts. All comments and supporting documents are available in a public docket and can be viewed at http://www.regulations.gov.

A total of 51 comments were submitted by members of the public during the 157 days of open comment periods and 6 public meetings.

A synopsis of the comments and copies of the First Coast Guard District's public outreach can be found in the report.

What is the study area?

The New York Bight encompasses a very large area starting along the coasts of New York and New Jersey, from Montauk Point, NY, to Cape May, NJ, and then offshore to the outer edge of the Continental Shelf. The Northern New York Bight study area is described as an area bounded by a line connecting the following geographic positions:

40 18′00.0″ N 074 00′00.0″ W;

38 57′00.0″ N 071 16′00.0″ W;

39 47′24.0″ N 069 40′01.2″ W;

41 07′12.0″ N 071 34′33.6″ W;

41 04′15.6″ N 071 51′25.2″ W; and

thence along the coast line back to the origin. All geographic points are based on North American Datum of 1983 (NAD 83).

This area extends approximately 150 nautical miles seaward and covers approximately 25,000 square nautical miles including the offshore area of New Jersey and New York used by private, commercial, and public vessels transiting to and from these ports. An illustration showing the study area is below with additional illustrations available in the online public docket where indicated under ADDRESSES.

Why did the Coast Guard conduct this PARS?

The Coast Guard conducted the NNYBPARS to evaluate the adequacy of existing vessel routing measures and determine whether additional vessel routing measures are necessary for port approaches to New York and New Jersey and international and domestic transit areas in the First District area of responsibility. The NNYBPARS considered whether existing or additional routing measures were necessary to improve navigation safety due to factors such as planned or potential offshore development, current port capabilities and planned improvements, increased vessel traffic, existing and potential anchorage areas, changing vessel traffic patterns, effects of weather, or navigational difficulty. Vessel routing measures, which include traffic separation schemes, two-way routes, recommended tracks, deep-water routes, precautionary areas, and areas to be avoided, are implemented to reduce the risk of marine casualties.

PARS are conducted anytime the Coast Guard considers a need to recommend routing changes, within the territorial seas, for any port. The Ports and Waterways Safety Act (PWSA) requires the Coast Guard to conduct a study before establishing new or adjusting existing fairways or Traffic Separation Scheme (TSS). U.S. waterways support multiple uses, such as commercial shipping, tug and barge operations, commercial and recreational fishing, research vessels, offshore support vessels, military vessels, and aquaculture apparatus.

How did the First Coast Guard District conduct this PARS?

The PARS was conducted in alignment with guidance outlined in Coast Guard Commandant Instruction 16003.2B, Marine Planning to Operate and Maintain the Marine Transportation System (MTS) and Implement National Policy which is available in the docket or see https://media.defense.gov/2017/Mar/15/2001716995/-1/-1/0/CI_16003_2A.PDF.

What were the objectives of the study?

The objectives of the study were to;

i. Determine present traffic density;

ii. Determine potential traffic density;

iii. Determine if existing vessel routing measures are adequate;

iv. Determine if existing vessel routing measures require modifications;

v. Determine the type of modifications;

vi. Define and justify the needs for new vessel routing measures;

vii. Determine the type of new vessel routing measures; and

viii. Determine if the usage of the vessel routing measures must be mandatory for specific classes of vessels.

III. Viewing the Report

The NNYBPARS report is available for viewing and download from the Federal Register docket at http://www.regulations.gov or the Coast Guard Navigation Center website at https://www.navcen.uscg.gov/?pageName=PARSReports.

To view the NNYBPARS report in the docket, go to http://www.regulations.gov, and insert “USCG-2020-0278” in the “search box.” Click “Search”. Then scroll down to the document entitled “FINAL REPORT Northern New York Bight PARS December 27, 2021” under the document type “Supporting & Related Material.”

IV. Conclusion

As required by the March 15, 2019 Federal Register Notice of study; request for comments (84 FR 9541), the First Coast Guard District considered whether it should revise existing regulations to improve navigation safety in NNYB due to factors such as vessel traffic density, vessel traffic patterns, weather conditions, or navigation challenges in the study area. The First Coast Guard District analyzed all available sources of data relevant to this process, including existing and potential traffic patterns, existing regulations, public submissions, and other factors. The First Coast Guard District identified five different alternatives to consider within this study.

As detailed in the final report, the First Coast Guard District recommends that multiple shipping safety fairways and one federal anchorage ground be established within the NNYBPARS study area. Shipping safety fairways may be utilized by mariners but are not mandatory for any specific class of vessel.

The First Coast Guard District actively monitors all waterways subject to its jurisdiction to help ensure navigation safety. As such, the First Coast Guard District will continue to monitor the Northern New York Bight for changing conditions and consider appropriate actions, such as recommend vessel routes or more extensive use of electronic Aids to Navigation to promote waterway and user safety.

This notice is published under the authority of 46 U.S.C. 70003, 70004 and 5 U.S.C. 552(a).

Dated: December 27, 2021.
T. G. Allan Jr.,
Rear Admiral, U.S. Coast Guard, Commander, First Coast Guard District.

[FR Doc. 2021-28457 Filed 12-30-21; 8:45 am]

BILLING CODE 9110-04-P